DEPARTMENT OF DEFENSE

GENERAL SERVICES ADMINISTRATION

NATIONAL AERONAUTICS AND SPACE ADMINISTRATION

48 CFR Parts 9, 14, 15, 31, and 52

[FAC 97-24 Correction]

Federal Acquisition Regulation; Correction to FAR Case 1999-010, Contractor Responsibility, Labor Relations Costs, and Costs Relating to Legal and Other Proceedings (Stay)

AGENCIES: Department of Defense (DOD), General Services Administration (GSA), and National Aeronautics and Space Administration (NASA).

ACTION: Corrections.

SUMMARY: The Civilian Agency Acquisition Council and the Defense Acquisition Regulations Council are issuing a correction to FAC 97-24 to correct the instruction for the revision of the Certification entitled “Certification Regarding Debarment, Suspension or Ineligibility for Award (Executive Order 12549).”

EFFECTIVE DATE: April 11, 2001.

FOR FURTHER INFORMATION CONTACT: Ms. Laurie Duarte at (202) 501-4755, General Services Administration, FAR Secretariat, Washington, DC 20405.

SUPPLEMENTARY INFORMATION:

Correction

In the interim rule document appearing in the Federal Register at 66 FR 17754, April 3, 2001, make the following correction:

52.209-5 [Corrected]

On page 17756, second line of the third column, remove the reference “(a)(1)(i)(B)” and insert “(a)(1)(i)(D)” in its place.

52.212-3 [Corrected]

1. On page 17756, in the third column, revise instruction number 8b. to read as follows:

8. * * *

b. Redesignate paragraph (i) as paragraph (j) and add a new paragraph (i) to read as follows:

* * * * *

Dated: April 6, 2001.
Al Matera,
Director, Acquisition Policy Division.

[FR Doc. 01-8921 Filed 4-10-01; 8:45 am]

BILLING CODE 6820-EP-P